INTERNATIONAL TRADE COMMISSION

[Investigation Nos. 701-TA-555 and 731-TA-1310 (Final)]

Certain Amorphous Silica Fabric From China

Determinations

On the basis of the record ¹ developed in the subject investigations, the United States International Trade Commission (“Commission”) determines, pursuant to the Tariff Act of 1930 (“the Act”), that an industry in the United States is materially injured by reason of imports of certain amorphous silica fabric from China,² provided for in subheadings 7019.59.40 and 7019.59.90 of the Harmonized Tariff Schedule of the United States, that have been found by the Department of Commerce (“Commerce”) to be sold in the United States at less than fair value (“LTFV”), and to be subsidized by the government of China. Because a minority of participating Commissioners made affirmative findings that imports subject to Commerce's affirmative critical circumstance determination are likely to undermine seriously the remedial effect of the antidumping duty order on certain amorphous silica fabric from China, the Commission has not made an affirmative critical circumstances finding with respect to such imports.³

¹ The record is defined in sec. 207.2(f) of the Commission's Rules of Practice and Procedure (19 CFR 207.2(f)).

² Chairman Schmidtlein, Vice Chairman Johanson, and Commissioner Williamson determine that the domestic industry is materially injured by reason of the subject imports. Commissioners Broadbent and Kieff determine that the domestic industry is threatened with material injury by reason of the subject imports, and that they would not have found material injury but for the suspension of liquidation. Commissioner Pinkert did not participate in the vote.

³ Chairman Schmidtlein and Commissioner Williamson made affirmative critical circumstances findings. Vice Chairman Johanson made a negative critical circumstances finding. Commissioners Broadbent and Kieff, having determined that a domestic industry is not materially injured by reason of amorphous silica fabric from China sold at less than fair value, did not reach the issue of critical circumstances.

Background

The Commission, pursuant to sections 705(b) and 735(b) of the Act (19 U.S.C. 1671d(b) and 19 U.S.C. 1673d(b)), instituted these investigations effective January 20, 2016, following receipt of a petition filed with the Commission and Commerce by Auburn Manufacturing, Inc., Mechanic Falls, Maine. The final phase of the investigations was scheduled by the Commission following notification of preliminary determinations by Commerce that imports of certain amorphous silica fabric from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 14, 2016 (81 FR 63205). The hearing was held in Washington, DC, on January 18, 2017, and all persons who requested the opportunity were permitted to appear in person or by counsel.

The Commission made these determinations pursuant to sections 705(b) and 735(b) of the Act (19 U.S.C. 1671d(b) and 19 U.S.C. 1673d(b)). It completed and filed its determinations in these investigations on March 10, 2017. The views of the Commission are contained in USITC Publication 4672 (March 2017), entitled Certain Amorphous from China: Investigation Nos. 701-TA-555 and 731-TA-1310 (Final).

By order of the Commission.
Issued: March 10, 2017.
William R. Bishop,
Supervisory Hearings and Information Officer.

[FR Doc. 2017-05278 Filed 3-15-17; 8:45 am]

BILLING CODE 7020-02-P